DEPARTMENT OF THE INTERIOR

Bureau of Land Management

[WY-957-05-1320-BJ]

Notice of Filing of Plats of Survey, Wyoming

AGENCY: Bureau of Land Management, Interior.

SUMMARY: The Bureau of Land Management (BLM) has filed the plats of survey of the lands described below in the BLM Wyoming State Office, Cheyenne, Wyoming, on December 16, 2005.

FOR FURTHER INFORMATION CONTACT: Bureau of Land Management, 5353 Yellowstone Road, P.O. Box 1828, Cheyenne, Wyoming 82003.

SUPPLEMENTARY INFORMATION: These surveys were executed at the request of the Bureau of Land Management, and are necessary for the management of resources. The lands surveyed are:

The plat representing the dependent resurvey of a portion of the subdivisional lines, and the subdivision of section 8, Township 20 North, Range 109 West, Sixth Principal Meridian, Wyoming, was accepted December 16, 2005.

The plat representing the dependent resurvey of a portion of the west boundary, a portion of the subdivisional lines and the subdivision of section 19, Township 33 North, Range 106 West, Sixth Principal Meridian, Wyoming, was accepted December 16, 2005.

The plat representing the dependent resurvey of a portion of the east boundary, a portion of the subdivisional lines and the subdivision of section 25, Township 32 North, Range 100 West, Sixth Principal Meridian, Wyoming, was accepted December 16, 2005.

The plat representing the dependent resurvey of a portion of the subdivisional lines and the subdivision of section 15, Township 40 North, Range 94 West, Sixth Principal Meridian, Wyoming, was accepted December 16, 2005.

Copies of the preceding described plats and field notes are available to the public at a cost of $1.10 per page.

Dated: December 21, 2005.
John P. Lee,
Chief Cadastral Surveyor, Division of Support Services.

[FR Doc. E5-8025 Filed 12-28-05; 8:45 am]

BILLING CODE 4310-22-P